DEPARTMENT OF LABOR

Employment and Training Administration

[NAFTA-005312E]

Rockwell Automation, Department 225, Milwaukee, WI; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2331), an investigation was initiated on September 10, 2001, in response to a petition filed by United Electrical, Radio and Machine Workers (UE), Local 1111, on behalf of workers at Rockwell Automation, Department 255, Milwaukee, Wisconsin. Workers produced NEMA disconnects.

An active certification covering the petitioning group of workers remains in effect (NAFTA-004283). Consequently, further investigation in this case would serve no purpose, and the investigation has been terminated.

Signed in Washington, DC, this 20th day of February, 2002.
Linda G. Poole,
Certifying Officer, Division of Trade Adjustment Assistance.

[FR Doc. 02-4734 Filed 2-27-02; 8:45 am]

BILLING CODE 4510-30-M